DEPARTMENT OF AGRICULTURE

Agricultural Marketing Service

7 CFR Part 981

[Docket No. AMS-FV-06-0169; FV06-981-1C]

Almonds Grown in California; Outgoing Quality Control Requirements; Correction

AGENCY: Agricultural Marketing Service, USDA.

ACTION: Correcting amendment.

SUMMARY: The Agricultural Marketing Service published a final rule in the Federal Register on March 30, 2007 (72 FR 15021). The document added outgoing quality control requirements under the administrative rules and regulations of the California almond marketing order. A reference in the new regulatory language was incorrectly cited. This document corrects that reference.

DATES: Effective on May 24, 2007.

FOR FURTHER INFORMATION CONTACT: Maureen Pello or Kurt Kimmel, California Marketing Field Office, Marketing Order Administration Branch, Fruit and Vegetable Programs, AMS, USDA; Telephone: (559) 487-5901, Fax: (559) 487-5906, or E-mail: Maureen.Pello@usda.gov or Kurt.Kimmel@usda.gov.

SUPPLEMENTARY INFORMATION: This document provides a correcting amendment to Marketing Order 981, found at 7 CFR part 981.

List of Subjects in 7 CFR Part 981

Almonds, Marketing agreements, Nuts, Reporting and recordkeeping requirements.

Accordingly, 7 CFR part 981 is corrected by making the following correcting amendment:

PART 981—ALMONDS GROWN IN CALIFORNIA

1. The authority citation for 7 CFR part 981 continues to read as follows:

Authority: 7 U.S.C. 601-674.

§ 981.442 [Corrected]

2. In § 981.442, amend the first sentence of paragraph (b)(6)(i)(A) by removing the word “(b)(6)” and adding in its place the word “(b)(3).”

Dated: May 21, 2007.
Lloyd C. Day,
Administrator, Agricultural Marketing Service.

[FR Doc. E7-10056 Filed 5-23-07; 8:45 am]

BILLING CODE 3410-02-P